Memorandum of December 21, 2018

Delegation of Functions and Authorities Under Section 1245 of the National Defense Authorization Act for Fiscal Year 2019

Memorandum for the Secretary of State[,] the Secretary of Defense[, and] the Secretary of Energy

By the authority vested in me as President by the Constitution and the laws of the United States of America, including section 301 of title 3, United States Code, I hereby:

(a) delegate to the Secretary of State, in coordination with departments and agencies through the National Security Presidential Memorandum-4 process, the functions and authorities vested in the President by sections 1245(a)(1) and 1245(a)(2) of the National Defense Authorization Act (NDAA) for Fiscal Year 2019 (Public Law 115-232); and

(b) delegate to the Secretary of Defense, in coordination with departments and agencies through the National Security Presidential Memorandum-4 process, the functions and authorities vested in the President by section 1245(a)(3) of the NDAA for Fiscal Year 2019.

The delegations in this memorandum shall apply to any provisions of any future public law that are the same or substantially the same as the provisions referenced in this memorandum.

The Secretary of State is authorized and directed to publish this memorandum in the Federal Register.

THE WHITE HOUSE,

Washington, December 21, 2018

[FR Doc. 2019-02456

Filed 2-12-19; 11:15 am]

Billing code 4710-10-P